FEDERAL COMMUNICATIONS COMMISSION

47 CFR Part 15

[ET Docket No. 99-231; FCC 03-124]

Spread Spectrum Devices

AGENCY: Federal Communications Commission.

ACTION: Petition for rulemaking; denial.

SUMMARY: This document denies the Petition for Reconsideration filed by Warren C. Havens and Telesaurus Holdings GB, LLC, d/b/a LMS Wireless (“Havens”) of the Commission's Second Report and Order in this proceeding. We affirm our decision to permit new digital transmission technologies to operate in the 902-928 MHz (915 MHz) band under the same rules that govern the operation of direct sequence spread spectrum systems, and reject Havens' request that we delay the implementation of these rules.

FOR FURTHER INFORMATION CONTACT: Neal McNeil, Office of Engineering and Technology, (202) 418-2408.

SUPPLEMENTARY INFORMATION: This is a summary of the Commission's Memorandum Opinion and Order, ET Docket No. 99-231, FCC 03-124, adopted May 27, 2003 and released May 30, 2003. The full text of this document is available on the Commission's Internet site at http://www.fcc.gov. It is also available for inspection and copying during regular business hours in the FCC Reference Center (Room CY-A257), 445 12th Street., SW., Washington, DC 20554. The full text of this document also may be purchased from the Commission's duplication contractor, Qualex International, Portals II, 445 12th St., SW., Room CY-B402, Washington, DC 20554; telephone (202) 863-2893; fax (202) 863-2898; e-mail qualexint@aol.com.

Summary of the Memorandum Opinion and Order

1. In the Second Report and Order in ET Docket No. 99-231, the Commission revised § 15.247 of its rules to allow new digital transmission technologies to operate under the same rules as direct sequence spread spectrum systems in the 915 MHz, 2.4 GHz, and 5.7 GHz bands. The Commission stated that these changes will facilitate the continued development and deployment of new wireless devices for businesses and consumers. The modified rules will allow more diverse products to occupy those bands, thereby increasing consumer choice. At the same time, the rules will provide flexibility for quickly introducing new non-interfering products without the need for rule makings to address each developing technology. The new rules became effective on July 25, 2002.

2. On July 25, 2002, Havens filed a petition for reconsideration asking the Commission to defer the rule changes noted above in the 915 MHz band, pending resolution of two rulemaking petitions: One filed by Progeny LMS LLC (“the Progeny petition”), and one that Havens intended to file at a later date. The Progeny petition seeks rule changes for the Location and Monitoring Service (“LMS”) in the 915 MHz band. Specifically, Progeny seeks elimination of restrictions baring a single licensee from holding all LMS licenses in a given area, elimination of the restriction on real-time interconnection, elimination of the restriction on the types of services LMS licensees may offer, and the substitution of technical limits, as necessary, for the current service limitations. Progeny also requests modification of the safe harbor provision of § 90.361 of the rules that creates a presumption of non-interference from part 15 and Amateur operations in the 902-928 MHz band. Havens asserts that the changes to the part 15 rules adopted in the Second Report and Order that allow increased flexibility for unlicensed devices may lead to increased part 15 use, which would jeopardize effective use of LMS in this spectrum.

3. We note that Havens has not shown sufficient cause for delaying the implementation date of the rules adopted in the Second Report and Order. The changes to the part 15 rules that allow increased flexibility for manufacturers to improve product performance did not change the technical requirements, i.e,. maximum peak power and power spectral density, that we find adequate to protect other spectrum users from interference. An LMS receiver will experience no more interference from a part 15 device operating under the rules adopted in the Second Report and Order than under the prior rules. Havens has made no showing that contradicts this conclusion, and a mere statement of belief that increased use may lead to increased interference is not sufficient justification for reconsideration. In the event that the Commission proposes to revise its rules in response to the Progeny petition, interested parties can address part 15 and LMS issues in the context of that rulemaking proceeding.

4. Finally, we decline to delay implementation of rule changes on the mere speculation that a Petition for Rulemaking may be filed that may affect use of the band. We note that the rule changes adopted in the Second Report and Order became effective on July 25, 2002. Havens did not raise any objections to the proposals during the pendency of this proceeding and has not filed a Petition for Rulemaking concerning the 915 MHz band. We find that Havens has not presented sufficient justifications to warrant reconsideration of the rules adopted in the Second Report and Order in this proceeding.

Ordering Clauses

5. Pursuant to sections 4(i), 302, 303(e), 303(f), 303(g), 303(r), and 405 of the Communications Act of 1934, as amended, 47 U.S.C. 154(i), 302, 303(e), 303(f), 303(g), 303(r), and 405, it is ordered that the Petition for Reconsideration filed by Warren C. Havens and Telesaurus GB, LLC is denied.

Federal Communications Commission.
William F. Caton,
Deputy Secretary.

[FR Doc. 03-15703 Filed 6-20-03; 8:45 am]

BILLING CODE 6712-01-P